DEPARTMENT OF ENERGY

Federal Energy Regulatory Commission

[Docket No. RP99-257-005]

William Gas Pipelines Central, Inc; Notice of Proposed Changes in FERC Gas Tariff

March 7, 2000.

Take notice that on March 1, 2000, Williams Gas Pipelines Central, Inc. (Williams), tendered for filing to become part of its FERC Gas Tariff, Original Volume No. 1, Substitute First Revised Sheet Nos. 30-32, with the proposed effective date of November 1, 1999.

Williams states that it made a filing in this docket on December 30, 1999 to set forth each customer's direct bill or refund amount in Williams' FERC Gas Tariff and to modify Articles 14.2, 27 and 28 to refer only to the Settlement. The instant filing is being made to correct the allocations among four customers. Two customers were affected by a capacity release adjustment not reflected correctly. Two other customers were affected by a contract that was transferred from one customer to the other not being reflected in the system on the correct date. A revised Exhibit B1 and B2 are enclosed, as well as revised tariff sheets.

Williams state that a copy of its filing was served on all participants listed on the service lists maintained by the Commission in the dockets referenced above and on all of Williams' jurisdictional customers and interested state commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of the filing are on file with the Commission and are available for public inspection in the Public Reference Room. This filing may be viewed on the web at http://www.ferc.fed.us/online/rims.htm (call 202-208-2222 for assistance).

David P. Boergers,
Secretary.

[FR Doc. 00-5983 Filed 3-10-00; 8:45am]

BILLING CODE 6717-01-M